DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10 (a)(1)(A) of the Endangered Species Act of 1973, as amended (16 U.S.C. 1531 et seq.).

Permit No. TE-037806

Applicant: Bureau of Land Management, Bakersfield, California

The applicant requests a permit to take (harass by survey, collect and sacrifice) the Conservancy fairy shrimp (Branchinecta conservatio), longhorn fairy shrimp (Branchinecta longiantenna), San Diego fairy shrimp (Branchinecta sandiegonensis), and the vernal pool tadpole shrimp (Lepidurus packardi) throughout each species range in conjunction with surveys for the purpose of enhancing their survival. These activities were previously authorized under subpermit No. BLMBD-1.

Permit No. TE-837310

Applicant: Philip E. Persons, Lompoc, California.

The applicant requests a permit amendment to take (locate and monitor nests) the California least tern (Sterna antillarum browni) in conjunction with monitoring in San Luis Obispo and Santa Barbara Counties for the purpose of enhancing its survival.

Permit Nos. TE-038271; TE-038065; TE-038109; TE-038697; TE-038583

Applicants: Jennifer Simmons, Ventura, California; Shannon Allen, San Diego, California; Theodore Noble Lee, San Diego, California; Jennifer Anderson, Solana Beach, California; Cynthia Wood, Julian, California.

Theses applicants each request a permit to take (survey by pursuit) the Quino checkerspot butterfly (Euphydryas editha quino) in conjunction with surveys throughout the species' range in California for the purpose of enhancing its survival.

Permit No. TE-038716

Applicant: Frank Wegscheider, Orange, California.

The applicant requests a permit to take (harass by survey, collect and sacrifice) the Conservancy fairy shrimp (Branchinecta conservatio), longhorn fairy shrimp (Branchinecta longiantenna), San Diego fairy shrimp (Branchinecta sandiegonensis), and the vernal pool tadpole shrimp (Lepidurus packardi) and take (survey by pursuit) the Quino checkerspot butterfly (Euphydryas editha quino) throughout each species' range in conjunction with surveys for the purpose of enhancing their survival.

Permit No. TE-797665

Applicant: Regional Environmental Consultants, San Diego, California.

The permittee requests an amendment to take (harass by survey and monitor nests) the southwestern willow flycatcher (Empidonax traillii extimus) and take (harass by survey) the cactus ferruginous pygmy-owl (Glaucidium brasilianum cactorum) in conjunction with surveys and population monitoring throughout each species' range for the purpose of enhancing their survival.

Permit No. TE-038578

Applicant: Van Smith, Brea, California.

The applicant requests a permit to take (harass by survey and nest monitor) the southwestern willow flycatcher (Empidonax traillii extimus) and take (nest monitor) the least Bell's vireo (Vireo bellii pusillus) in conjunction with surveys and population monitoring throughout the state of California for the purpose of enhancing their survival.

Permit No. TE-807078

Applicant: William J. Sydeman, Point Reyes Bird Observatory, Stinson Beach, California.

The applicant requests a permit amendment to take (locate and monitor nests; capture and band) the California least tern (Sterna antillarum browni) in conjunction with monitoring in San Luis Obispo and Santa Barbara Counties for the purpose of enhancing its survival.

Permit No. TE-020548

Applicant: Western Ecological Science Center, Biological Resources Division of the U.S. Geological Survey, Vallejo, California.

The applicant requests an amendment to take (fur-clip) the salt marsh harvest mouse (Reithrodontomys raviventris) in conjunction with genetic research throughout the species' northern range in California for the purpose of enhancing its survival.

Permit No. TE-038717

Applicant: Pacificorp, Portland, Oregon.

The applicant requests a permit to take (capture, handle, and release) the shortnose sucker (Chasmistes brevirostris) and Lost River sucker (Deltistes luxatus) in conjunction with scientific research throughout the Klamath River and its major tributaries in Oregon and California for the purpose of enhancing their survival.

Permit No. TE-038718

Applicant: Robert C. Parker, Ramona, California.

The applicant requests a permit to take (harass) the California least tern (Sterna antillarum browni) in conjunction with predator control activities in San Diego County, California for the purpose of enhancing its survival.

Permit No. TE-038971

Applicant: Roger Thibault, Swansea, Massachusetts.

The applicant requests a permit to purchase, in interstate commerce, three female and three male captive bred Hawaiian (=nene) geese (Nesochen [=Branta] sandvicensis) for the purpose of enhancing the species propagation and survival. This notification covers activities conducted by the applicant over the next 5 years.

DATES: Written comments on these permit applications must be received on or before April 9, 2001.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: February 23, 2001.
Rowan W. Gould,
Acting Regional Director, Region 1, Portland, Oregon.

[FR Doc. 01-5657 Filed 3-7-01; 8:45 am]

BILLING CODE 4310-55-P